DEPARTMENT OF COMMERCE

International Trade Administration

[A-570-827]

Cased Pencils From the People's Republic of China: Initiation of Antidumping Duty New Shipper Review

AGENCY: Enforcement and Compliance, International Trade Administration, Department of Commerce.

SUMMARY: On May 29, 2015, the Department of Commerce (the Department) received a timely request for a new shipper review (NSR) from Wah Yuen Stationery Co. Ltd. (Wah Yuen), in accordance with section 751(a)(2)(B)(i) of the Tariff Act of 1930, as amended (the Act), and 19 CFR 351.214(c).¹ On June 22, 2015, the Department issued a letter to Wah Yuen requesting that it correct certain deficiencies in its initial request.² On June 29, 2015, Wah Yuen submitted a timely response to the Department's request.³ The Department has determined that the request for a new shipper review of the antidumping duty order on cased pencils from the People's Republic of China (PRC) meets the statutory and regulatory requirements for initiation. Thus, we are initiating a new shipper review.

¹ See Letter from Wah Yuen, “Certain Cased Pencils from the People's Republic of China: Request for New Shipper Review and Notice of Appearance” dated May 29, 2015 (Wah Yuen NSR request).

² See Letter from Dana S. Mermelstein, regarding the opportunity to correct deficiencies, dated June 22, 2015.

³ See Letter from Wah Yuen, “Certain Cased Pencils from the People's Republic of China: Supplemental Request for New Shipper Review” dated June 29, 2015 (Wah Yuen supplemental NSR request).

DATES: Effective date: August 7, 2015.

FOR FURTHER INFORMATION CONTACT: Mary Kolberg, AD/CVD Operations Office I, Enforcement and Compliance, International Trade Administration, U.S. Department of Commerce, 14th Street and Constitution Avenue NW., Washington, DC 20230; Telephone: (202) 482-1785.

SUPPLEMENTARY INFORMATION:

Background

The antidumping duty order on cased pencils from the PRC published in the Federal Register on December 28, 1994.⁴ Pursuant to section 751(a)(2)(B)(i) of the Act, we received a timely request for a new shipper review of the Order from Wah Yuen.⁵ Wah Yuen certified that it is both the producer and exporter of the subject merchandise upon which its request was based.⁶

⁴ See Antidumping Duty Order: Certain Cased Pencils from the People's Republic of China, 59 FR 66909 (December 28, 1994) (Order).

⁵ See Wah Yuen NSR request.

⁶ Id. at page 1.

Pursuant to section 751(a)(2)(B)(i)(I) of the Act and 19 CFR 351.214(b)(2)(i), Wah Yuen certified that it did not export subject merchandise to the United States during the period of investigation (POI).⁷ In addition, pursuant to section 751(a)(2)(B)(i)(II) of the Act and 19 CFR 351.214(b)(2)(iii)(A), Wah Yuen certified that, since the initiation of the investigation, it has never been affiliated with any exporter or producer who exported subject merchandise to the United States during the POI, including those respondents not individually examined during the POI.⁸ As required by 19 CFR 351.214(b)(2)(iii)(B), Wah Yuen also certified that its export activities are not controlled by the government of the PRC.⁹

⁷ Id. at Exhibit 2.

⁸ See Wah Yuen supplemental NSR request at Exhibit 5.

⁹ See Wah Yuen NSR request at Exhibit 4.

In addition to the certifications described above, pursuant to 19 CFR 351.214(b)(2), Wah Yuen submitted documentation establishing the following: (1) The date on which it first shipped subject merchandise for export to the United States; (2) the volume of its first shipment; and (3) the date of its first sale to an unaffiliated customer in the United States.¹⁰

¹⁰ Id. at Exhibit 1and Wah Yuen supplemental NSR request at Exhibit 6.

Period of Review

In accordance with 19 CFR 351.214(g)(1)(B), the period of review (POR) for new shipper reviews initiated in the month immediately following the semiannual anniversary month will be the six-month period immediately preceding the semiannual anniversary month. Therefore, based on the Order, the POR for this NSR is December 1, 2014, through May 31, 2015.

Initiation of New Shipper Reviews

Pursuant to section 751(a)(2)(B) of the Act and 19 CFR 351.214(d)(1), the Department finds that the request from Wah Yuen meets threshold requirements for the initiation of a new shipper review of shipments of cased pencils from the PRC produced and exported by Wah Yuen.¹¹

¹¹ See the memorandum to the file entitled “Cased Pencils from the People's Republic of China: Initiation Checklist for Antidumping Duty New Shipper Review of Wah Yuen Stationery Co., Ltd.” dated concurrently with this notice.

The Department intends to issue the preliminary results of this new shipper review no later than 180 days from the date of initiation and the final results of the review no later than 90 days after the date the preliminary results are issued.¹² It is the Department's usual practice, in cases involving non-market economy countries, to require that a company seeking to establish eligibility for an antidumping duty rate separate from the country-wide rate provide evidence of de jure and de facto absence of government control over the company's export activities.¹³ Accordingly, we will issue a questionnaire to Wah Yuen that will include a section requesting information concerning its eligibility for a separate rate. The new shipper review of Wah Yuen will be rescinded if the Department determines that the new shipper applicant has not demonstrated that it is eligible for a separate rate.

¹² See section 751(a)(2)(B)(iv) of the Act and 19 CFR 351.214(i).

¹³ See Freshwater Crawfish Tail Meat From the People's Republic of China: Initiation of Antidumping Duty New Shipper Reviews, 79 FR 64749 (October 31, 2014).

We will instruct CBP to allow, at the option of the importer, the posting, until the completion of the review, of a bond or security in lieu of a cash deposit for the entry of the subject merchandise from Wah Yuen, in accordance with section 751(a)(2)(B)(iii) of the Act and 19 CFR 351.214(e). Specifically, the bonding privilege will apply only to entries of subject merchandise exported and produced by Wah Yuen, the sales of which are the basis for this NSR request.

Interested parties requiring access to proprietary information in the new shipper review should submit applications for disclosure under administrative protective order, in accordance with 19 CFR 351.305 and 351.306.

This initiation and notice are published in accordance with section 751(a)(2)(B) of the Act and 19 CFR 351.214 and 351.221(c)(1)(i).

Dated: July 31, 2015.
Christian Marsh,
Deputy Assistant Secretary for Antidumping and Countervailing Duty Operations.

[FR Doc. 2015-19484 Filed 8-6-15; 8:45 am]

BILLING CODE 3510-DS-P